DEPARTMENT OF JUSTICE

Drug Enforcement Administration

Importer of Controlled Substances Notice of Application

Correction

In notice document 2012-14161, appearing on pages 35020-35021 in the issue of Tuesday, June 12, 2012, make the following correction:

On page 35020, in the third column, in the fourth full paragraph, in the eighth and ninth lines, “[insert date 30 days from date of publication]” should read “July 12, 2012”.

[FR Doc. C1-2012-14161 Filed 6-13-12; 8:45 am]

BILLING CODE 1505-01-D